DEPARTMENT OF EDUCATION

34 CFR Chapter III

[Docket ID ED-2015-OSERS-0069; CFDA Number: 84.264G.]

Final Priority. Rehabilitation Training: Vocational Rehabilitation Workforce Innovation Technical Assistance Center

AGENCY: Office of Special Education and Rehabilitative Services, Department of Education.

ACTION: Final priority.

SUMMARY: The Assistant Secretary for Special Education and Rehabilitative Services announces a priority under the Rehabilitation Training program. The Assistant Secretary may use this priority for competitions in fiscal year 2015 and later years. We take this action to provide training and technical assistance to State vocational rehabilitation agencies to improve services under the State Vocational Rehabilitation Services program and State Supported Employment Services program for individuals with disabilities, including those with the most significant disabilities, and to implement changes to the Rehabilitation Act of 1973, as amended by the Workforce Innovation and Opportunity Act (WIOA), signed into law on July 22, 2014.

DATES: This priority is effective September 14, 2015.

FOR FURTHER INFORMATION CONTACT: Jerry Elliott, U.S. Department of Education, 400 Maryland Avenue SW., Room 5021, Potomac Center Plaza (PCP), Washington, DC 20202-2800. Telephone: (202) 245-7335 or by email: jerry.elliott@ed.gov.

If you use a telecommunications device for the deaf (TDD) or a text telephone (TTY), call the Federal Relay Service (FRS), toll free, at 1-800-877-8339.

SUPPLEMENTARY INFORMATION:

Purpose of Program: Under the Rehabilitation Act of 1973 (Rehabilitation Act), as amended by the Workforce Innovation and Opportunity Act, the Rehabilitation Services Administration (RSA) makes grants to States and public or nonprofit agencies and organizations (including institutions of higher education) to support projects that provide training, traineeships, and technical assistance (TA) designed to increase the numbers of, and improve the skills of, qualified personnel, especially rehabilitation counselors, who are trained to provide vocational, medical, social, and psychological rehabilitation services to individuals with disabilities; assist individuals with communication and related disorders; and provide other services authorized under the Rehabilitation Act.

Program Authority: 29 U.S.C. 772(a)(1).

Applicable Program Regulations: 34 CFR part 385.

We published a notice of proposed priority for this competition in the Federal Register on June 17, 2015 (80 FR 34579). That notice contained background information and our reasons for proposing the particular priority. Except for minor revisions, there are no differences between the proposed priority and this final priority.

Public Comment: In response to our invitation in the notice of proposed priority, eight parties submitted comments on the proposed priority. Generally, we do not address technical and other minor changes, or suggested changes the law does not authorize us to make under the applicable statutory authority. In addition, we do not address general comments that raised concerns not directly related to the proposed priorities.

Analysis of Comments and Changes: An analysis of the comments follows.

Comment: Most of the commenters recommended that we modify the priority to establish two centers—one center providing assistance to designated State vocational rehabilitation (VR) agencies serving individuals who are blind or visually impaired and a second center to provide assistance to designated State VR agencies that serve all other individuals with disabilities. In the alternative, these commenters recommended that if the Office of Special Education and Rehabilitative Services (OSERS) decides to fund only one center, the final priority should earmark funds and require, directly or through contract or other arrangement, qualified TA staff to address the unique needs of professionals serving individuals with blindness.

The commenters stated that these recommendations are consistent with section 101(a)(2)(A) of the Rehabilitation Act, which authorizes States to designate a State agency to provide VR services to individuals who are blind or visually impaired, as well as a designated State agency to provide VR services to all other individuals with disabilities. If a second center were established to serve individuals who are blind or visually impaired, such action would recognize that these agencies and the clientele they serve deserve the same quality, level, and intensity of TA provided to designated State agencies that serve all other individuals with disabilities.

Discussion: RSA recognizes that the Rehabilitation Act authorizes a State to designate a separate VR agency to serve individuals who are blind or visually impaired, and agrees that these agencies deserve the same quality, level, and intensity of TA provided to State agencies that serve all other individuals with disabilities.

However, we believe the priority as written provides TA of the same quality, level, and intensity to all State VR agencies, regardless of type. All 80 State VR agencies (including the 24 separate State VR agencies for individuals who are blind or visually impaired) will be able to receive universal, general TA, as well as targeted, specialized TA for the five topic areas of responsibility outlined for the Workforce Innovation Technical Assistance Center (WITAC). Likewise, all 80 agencies may apply for intensive TA for the five topic areas of responsibility outlined for the WITAC. Intensive TA is intended to be individualized to the needs of the requesting State VR agency and driven by an agreement between the State VR agency requesting the intensive TA and the WITAC.

In general, the five topic areas pertain to new requirements of WIOA, which apply to all States and to all State VR agencies, and thus do not necessitate separate TA centers for agencies serving individuals who are blind or visually impaired. While implementation strategies and responsibilities of State VR agencies in States where two State VR agencies exist may differ somewhat depending on their negotiated responsibilities within the State, these differences can be addressed through the negotiated intensive TA agreement.

Additionally, we decline to set aside a portion of the funds for TA to the State VR agencies for individuals who are blind or visually impaired. As outlined above, we believe that all TA provided by the WITAC will be beneficial to State VR agencies regardless of the population that they serve, and a set-aside may result in an inefficient allocation of funds.

Changes: None.

Comment: One commenter stated that the WITAC appears to cover an extremely broad spectrum of issues, such as: Pre-employment transition services, compliance with section 511 of the Rehabilitation Act, competitive integrated employment strategies, integration into the State workforce development system, and transition to new performance accountability measures. The commenter was concerned about the degree to which the center will be able to provide meaningful guidance and assistance across such a wide range of topics to VR agencies nationwide, as well as about how this will mesh with the efforts of the Job Driven Vocational Rehabilitation Technical Assistance Center (JDVRTAC) and other planned instruments for assistance.

Discussion: We agree that the WITAC covers a broad spectrum of topics, but we believe that this will not be an obstacle to effective TA or produce unnecessary duplication with the work of the JDVRTAC. Rather, the common thread among the TA topics is that they all address changes required by WIOA. Further, because some topic areas are interrelated in pursuit of WIOA goals, we believe that it is reasonable for the WITAC to provide TA in each of these topic areas. The applicant will be required to describe how the center will be staffed and will provide the expertise to address all of the five topic areas in this priority. Finally, the WITAC and the JDVRTAC are cooperative agreements, which allow for oversight, coordination, and direction of project activities by RSA through the terms of the cooperative agreements. In sum, we believe that the benefits of having these WIOA-related TA topics housed together in a single center outweigh any disadvantages.

Changes: None.

Comment: One commenter noted that, as with the JVRDTAC, it would appear that TA classified as “intensive” would be available to a relatively small number of agencies nationally (approximately 23). The commenter suggested that criteria for selection of these sites be included in the scope of the WITAC.

Discussion: We disagree. The intent is to allow State VR agencies to request TA tailored to meet their individual needs (within the content of one or more of the five topic areas). We therefore do not want to create in the priority a rigid, one-size-fits-all set of criteria for all requests.

Further, as to the appropriate distribution of TA, the applicant will be required to describe its plan for recruiting and selecting State VR agencies as part of the application. After the grant is awarded, RSA will modify the required number of agencies to receive intensive TA, if needed, through the cooperative agreement.

Changes: None.

Comment: One commenter stated that the type of assistance to be provided under topic area (d) (integration of the State VR program into the workforce development system) and under topic area (e) (transition to new common performance accountability system and its required data elements) is unclear, and the commenter recommended that this assistance be consistent with the guidance and TA that the U.S. Departments of Labor (DOL) and Education, as well other WIOA core partners, provide to their own State entities. The commenter also recommended that assistance in developing contractual agreements for WIOA partnerships be included.

Discussion: We recognize that some of the topic areas may seem broad in their wording. However, this is intentional. Given the range of issues that we expect State VR agencies may experience as they begin to implement WIOA, we believe it is important to provide the WITAC with broader areas of focus, so that the center can effectively respond to the needs of the field.

We also agree that the TA provided by the WITAC needs to be consistent with the guidance and TA provided by RSA, DOL, and other WIOA core partners. As such, collaboration and coordination with other partners and TA efforts is required in the priority and will be ensured through mechanisms described in the cooperative agreement. The WITAC is also charged with gathering guidance and TA materials from these sources, and the WITAC may provide TA jointly with partners or partner TA centers as WIOA implementation efforts move forward.

As part of the TA to be provided in the “integration of the State VR program into the workforce development system” topic area, the WITAC can provide assistance to States in developing contractual agreements for WIOA partnerships. The applicant will have to describe how it will collect and disseminate contracts, related policies, and other information about State VR agency efforts with regard to implementation of WIOA's requirements as part of the knowledge development requirements in the priority.

Changes: None.

Comment: One commenter stated that specific guidance and TA on reporting requirements for both fiscal and programmatic changes (particularly pre-employment transition services), changes to the Case Service Report (RSA-911) data reporting, and data sharing with other WIOA core partners are essential to optimal implementation of WIOA. In addition, the commenter recommended that this guidance be provided as quickly and specifically as possible to allow States to restructure and implement the new requirements for data collection and service delivery.

Discussion: We agree that specific guidance for reporting requirements, including RSA-911 reporting changes and data sharing with other WIOA core partners, is essential to the implementation of WIOA. We also agree that guidance in these areas is needed as soon as possible.

However, it is not the responsibility of the WITAC to develop the guidance on these issues. That responsibility lies with the Federal agencies. The WITAC, on the other hand, will assist State VR agencies in implementing these new requirements as soon as practicable after the guidance is available. The WITAC will also provide TA to State VR agencies on how to use performance results to improve agency performance.

Changes: None.

Comment: One commenter asked how much guidance will be provided in development of Unified or Combined State Plans and how the timing of this assistance will mesh with the established deadline of March 2016 for Unified or Combined State Plan submissions. The commenter also asked if there will be a separate TA mechanism for this aspect of WIOA implementation.

Discussion: TA on these topics can be conducted through the WITAC as part of the activities related to the integration of the VR program into the workforce development system. Even though this is an area of major change, the content of the Unified or Combined State Plans is related to the implementation activities of many parts of WIOA. At this time, RSA is not planning any further investments under this program for TA on Unified or Combined State Plans.

We recognize that States are required to submit their Unified or Combined State Plans by March 2016. However, given the expected award date of this cooperative agreement, and the time that the WITAC will need to set up and onboard the necessary staff, we do not think it is reasonable to expect the WITAC to be able to provide intensive TA to a large number of States prior to the March 2016 submission deadline. However, RSA is committed to ensuring that States have the resources that they need to complete these plans, and will work with the WITAC to prioritize TA resources as needed when the award is made.

Changes: None.

Comment: One commenter recommended establishment of a WITAC after State VR agencies and others have had a reasonable time to digest WIOA and the final regulations so as to have a clear idea of the TA that would be needed. The commenter recommended delaying implementation of a WITAC until 2016.

Discussion: We disagree that implementation of the WITAC should be postponed until 2016. Based on RSA's experience, it will take a new TA center about one year to gather and develop information on existing and emerging practices that could relate to the implementation of WIOA in the five topic areas assigned to the WITAC. Regulations will be final during that time. Additionally, given the likely award date, we do not expect any intensive TA agreements to begin until 2016, and to have the center start from scratch in 2016 would likely delay the implementation of intensive TA agreements until 2017.

Changes: None.

Comment: One commenter stated that, while the list of specific TA topic areas is a good list, there ought to be flexibility for State VR agencies and the WITAC to deviate from the stated TA topic areas if they find themselves in need of WIOA TA on other topics.

Discussion: We believe that the list of WIOA topic areas is sufficiently broad to encompass TA on WIOA requirements, except for those requirements relating to employer engagement, services to employers, and knowledge of the 21st century workforce. These aspects of WIOA are primarily the purview of the JDVRTAC, with which the WITAC will be required to coordinate through the cooperative agreements of both centers.

Taking the WITAC and the JDVRTAC together, we believe that TA needs emerging from WIOA implementation can be subsumed under one or more topic areas of these centers.

Changes: None.

Comment: One commenter suggested that, in order to avoid duplication and stretching of resources, the WITAC should look to existing effective communities of practice that could meet identified TA needs in various areas before establishing a new one.

Discussion: We agree that avoiding duplication and prudent use of resources is important, and nothing in the current priority prohibits the use of existing communities of practice. Indeed, cross-posting materials on multiple, disparate communities of practice could be a useful tool for expanding the reach of the WITAC. However, we also believe a dedicated forum relating to the work of the WITAC will be a valuable resource for State VR staff and may help to bring together staff who would otherwise not collaborate on independent communities of practice.

Changes: None.

Final Priority:

The purpose of this priority is to fund a cooperative agreement to establish a Vocational Rehabilitation Workforce Innovation Technical Assistance Center (WITAC). The focus of this priority is to provide training and technical assistance (TA) to State vocational rehabilitation (VR) agencies on the new statutory requirements imposed by WIOA.

The WITAC is designed to achieve, at a minimum, the following outcomes:

(a) Implementation of effective and efficient “pre-employment transition services” for students with disabilities, as set forth in section 113 of the Rehabilitation Act;

(b) Implementation by State VR agencies, in coordination with local and State educational agencies and with the Department of Labor, of the requirements in section 511 of the Rehabilitation Act that are under the purview of the Department of Education;

(c) Increased access to supported employment and customized employment services for individuals with the most significant disabilities, including youth with the most significant disabilities, receiving services under the State VR and Supported Employment programs;

(d) An increased percentage of individuals with disabilities who receive services through the State VR agency and who achieve employment outcomes in competitive integrated employment;

(e) Improved collaboration between State VR agencies and other core programs of the workforce development system; and

(f) Implementation of the new common performance accountability system under section 116 of WIOA.

Topic Areas

The WITAC will develop and provide training and TA to State VR agency staff and related rehabilitation professionals and service providers in five topic areas related to changes made by WIOA:

(a) Provision of pre-employment transition services to students with disabilities and supported employment services to youth with disabilities;

(b) Implementation of the requirements in section 511 of the Rehabilitation Act that are under the purview of the Department of Education;

(c) Provision of resources and strategies to help individuals with disabilities achieve competitive integrated employment, including customized employment and supported employment;

(d) Integration of the State VR program into the workforce development system; and

(e) Transition to the new common performance accountability system under section 116 of WIOA, including the collection and reporting of common data elements.

Project Activities

To meet the requirements of this priority, the WITAC must, at a minimum, conduct the following activities:

Knowledge Development Activities

(a) In the first year, collect information from the literature and from existing State and Federal programs about evidence-based and promising practices relevant to the work of the WITAC and make this information publicly available in a searchable, accessible, and useful format. The WITAC must review, at a minimum:

(1) Literature on evidence-based and promising practices relevant to the work of the WITAC;

(2) The results of State VR agency monitoring conducted by RSA;

(3) State VR agency program and performance data;

(4) Department of Education and Department of Labor policies and guidance on program changes made by WIOA and implementation of those changes; and

(5) Any existing State VR agency memoranda of understanding (MOUs) or agreement (MOAs) related to the work of the WITAC.

(b) In the first year, conduct a survey of relevant stakeholders and VR service providers to identify workforce development TA needs and a process by which TA solutions can be offered to State VR agencies and their partners. The WITAC must survey, at a minimum:

(1) State VR agency staff;

(2) Relevant RSA staff; and

(3) Other stakeholders, including stakeholders from the transition and special education community, the workforce development community, and the rehabilitation community.

(c) Develop and refine one or more curriculum guides for VR staff training for each of the topic areas listed in the Topic Areas section of this priority.

Technical Assistance and Dissemination Activities

(a) Provide intensive, sustained TA ¹ to a minimum of 23 State VR agencies and their associated rehabilitation professionals and service providers in the topic areas set out in this priority. The WITAC must provide intensive, sustained TA to a minimum of two agencies in the first year of the project and to a minimum of seven additional agencies per year in the second, third, and fourth years of the project. These are minimum requirements, and the expectation is that intensive, sustained TA will be provided, to the extent funds are available, to all of the State VR agencies that request intensive, sustained TA. This TA must include:

¹ For the purposes of this priority, “intensive, sustained technical assistance” means TA services often provided on-site and requiring a stable, ongoing relationship between the TA center staff and the TA recipient. “Technical assistance services” are defined as negotiated series of activities designed to reach a valued outcome. This category of TA should result in changes to policy, program, practice, or operations that support increased recipient capacity or improved outcomes at one or more systems levels.

(1) For topic area (a), how to—

(i) Develop, manage, and implement effective pre-employment transition services to improve the transition of students with disabilities from secondary to postsecondary education and employment;

(ii) Coordinate pre-employment transition services with transition services provided under IDEA; and

(iii) Develop and implement supported employment services for youth with the most significant disabilities;

(2) For topic area (b):

(i) How to provide career-related counseling, information, and referral services to individuals entering and continuing employment at subminimum wages; and

(ii) How to implement documentation requirements for youth with disabilities seeking employment at subminimum wage, in accordance with section 511 of the Rehabilitation Act;

(3) For topic area (c), how to design and implement new services and new roles and responsibilities among partner agencies to increase the percentage of individuals achieving competitive integrated employment and to meet the supported employment and customized employment requirements of the Rehabilitation Act;

(4) For topic area (d), how to develop model relationships between State VR agencies and other core programs of the workforce development system for purposes of implementing the requirements of title I of WIOA, especially those requirements related to integration of core programs into the workforce development system; and

(5) For topic area (e), how to effectively transition to the new common performance accountability system required in section 116 of WIOA and use performance results to implement programmatic changes to improve agency performance.

(b) Provide a range of targeted, specialized TA ² and universal, general TA ³ products and services on the topic areas in this priority. This TA must include, at a minimum, the following activities:

² For the purposes of this priority, “targeted, specialized technical assistance” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

³ For the purposes of this priority, “universal, general technical assistance” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(1) Establishing and maintaining a state-of-the-art information technology (IT) platform sufficient to support Webinars, teleconferences, video conferences, and other virtual methods of dissemination of information and TA.

Note: All products produced by WITAC must meet government- and industry-recognized standards for accessibility, including section 508 of the Rehabilitation Act.

(2) Developing and maintaining a state-of-the-art archiving and dissemination system that—

(i) Provides a central location for later use of TA products, including course curricula, audiovisual materials, Webinars, examples of emerging and best practices for the topic areas in this priority, and any other TA products; and

(ii) Is open and available to the public.

Note: In meeting the requirements for (b)(1) and (2) above, the WITAC may either develop new platforms or systems or may modify existing platforms or systems, so long as the requirements of this priority are met.

(3) Providing a minimum of two Webinars or video conferences over the course of the project on each of the topic areas in this priority to describe and disseminate information about emerging and best practices in each area.

Coordination Activities

(a) Establish one or more communities of practice that focus on the topic areas in this priority and that act as vehicles for communication and exchange of information among State VR agencies and partners, including the results of TA projects that are in progress or have been completed;

(b) Communicate, collaborate, and coordinate, on an ongoing basis, with other relevant Department-funded projects and those supported by the Social Security Administration (SSA) and the Departments of Labor, Health and Human Services, and Commerce; and

(c) Maintain ongoing communication with the RSA project officer and other RSA staff as required.

Application Requirements

To be funded under this priority, applicants must meet the application requirements in this priority. RSA encourages innovative approaches to meet these requirements, which are to:

(a) Demonstrate, in the narrative section of the application under “Significance of the Project,” how the proposed project will address State VR agencies' capacity to implement the requirements of WIOA. To meet this requirement, the applicant must:

(1) Demonstrate knowledge of current RSA guidance and State and Federal initiatives designed to improve engagement with the workforce development system and workforce development system partners;

(2) Demonstrate knowledge of current State VR agency and other efforts to improve engagement with secondary schools, youth programs, and other programs that provide services to youth with disabilities for the purpose of assisting such youth to enter postsecondary education or competitive integrated employment; and

(3) Demonstrate knowledge of current State VR agency efforts to engage with State Medicaid, developmental disability, and mental health agencies to develop agreements and provide services leading to competitive integrated employment, including supported employment and customized employment.

(b) Demonstrate, in the narrative section of the application under “Quality of Project Services,” how the proposed project will—

(1) Achieve its goals, objectives, and intended outcomes. To meet this requirement, the applicant must provide—

(i) Measurable intended project outcomes;

(ii) A plan for how the proposed project will achieve its intended outcomes; and

(iii) A plan for communicating, collaborating, and coordinating with key staff in State VR agencies; State and local partner programs; RSA partners, such as the Council of State Administrators of Vocational Rehabilitation, the National Association of State Directors of Special Education, the National Council of State Agencies for the Blind, and other TA centers; and relevant programs within SSA and the Departments of Education, Labor, Health and Human Services, and Commerce.

(2) Use a conceptual framework to develop project plans and activities, describing any underlying concepts, assumptions, expectations, beliefs, or theories, as well as the presumed relationships or linkages among these variables, and any empirical support for this framework.

(3) Be based on current research and make use of evidence-based practices. To meet this requirement, the applicant must describe—

(i) How the current research about adult learning principles and implementation science will inform the proposed TA; and

(ii) How the proposed project will incorporate current research and evidence-based practices in the development and delivery of its products and services.

(4) Develop products and provide services that are of high quality and sufficient intensity and duration to achieve the intended outcomes of the proposed project. To address this requirement, the applicant must describe—

(i) Its proposed activities to identify or develop the knowledge base on emerging and promising practices in the five topic areas listed in the Topic Areas section of this priority;

(ii) Its proposed approach to universal, general TA;

(iii) Its proposed approach to targeted, specialized TA, which must identify—

(A) The intended recipients of the products and services under this approach; and

(B) Its proposed approach to measure the capacity and readiness of State VR agencies to work with the proposed project, assessing, at a minimum, their current infrastructure, available resources, and ability to effectively respond to the TA, as appropriate;

(iv) Its proposed approach to intensive, sustained TA, which must identify—

(A) The intended recipients of the products and services under this approach;

(B) Its proposed approach to measure the readiness of the State VR agencies to work with the proposed project, including the State VR agencies' commitment to the initiative, fit of the initiative, current infrastructure, available resources, and ability to effectively respond to the TA, as appropriate;

(C) Its proposed plan for assisting State VR agencies to build training systems that include professional development based on adult learning principles and coaching; and

(D) Its proposed plan for developing agreements with State VR agencies to provide intensive, sustained TA. The plan must describe how the agreements will outline the purposes of the TA, the intended outcomes of the TA, and the measurable objectives of the TA that will be evaluated.

(5) Develop products and implement services to maximize the project's efficiency. To address this requirement, the applicant must describe—

(i) How the proposed project will use technology to achieve the intended project outcomes; and

(ii) With whom the proposed project will collaborate and the intended outcomes of this collaboration.

(c) Demonstrate, in the narrative section of the application under “Quality of the Evaluation Plan,” how the proposed project will—

(1) Measure and track the effectiveness of the TA provided. To meet this requirement, the applicant must describe its proposed approach to—

(i) Collecting data on the effectiveness of each TA activity from State VR agencies, partners, or other sources, as appropriate; and

(ii) Analyzing data and determining effectiveness of each TA activity, including any proposed standards or targets for determining effectiveness.

(2) Collect and analyze data on specific and measurable goals, objectives, and intended outcomes of the project, including measuring and tracking the effectiveness of the TA provided. To address this requirement, the applicant must describe—

(i) Its proposed evaluation methodologies, including instruments, data collection methods, and analyses;

(ii) Its proposed standards or targets for determining effectiveness;

(iii) How it will use the evaluation results to examine the effectiveness of its implementation and its progress toward achieving the intended outcomes; and

(iv) How the methods of evaluation will produce quantitative and qualitative data that demonstrate whether the project and individual TA activities achieved their intended outcomes.

(d) Demonstrate, in the narrative section of the application under “Adequacy of Project Resources,” how—

(1) The proposed project will encourage applications for employment from persons who are members of groups that have historically been underrepresented based on race, color, national origin, gender, age, or disability, as appropriate;

(2) The proposed key project personnel, consultants, and subcontractors have the qualifications and experience to provide TA to State VR agencies and their partners in each of the topic areas in this priority and to achieve the project's intended outcomes;

(3) The applicant and any key partners have adequate resources to carry out the proposed activities; and

(4) The proposed costs are reasonable in relation to the anticipated results and benefits;

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks.

(2) Key project personnel and any consultants and subcontractors will be allocated to the project and how these allocations are appropriate and adequate to achieve the project's intended outcomes, including an assurance that such personnel will have adequate availability to ensure timely communications with stakeholders and RSA;

(3) The proposed management plan will ensure that the products and services provided are of high quality; and

(4) The proposed project will benefit from a diversity of perspectives, including those of State and local personnel, TA providers, researchers, and policy makers, among others, in its development and operation.

Types of Priorities: When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Through this priority, State VR agencies will receive TA to improve the quality of VR services and the competitive integrated employment outcomes achieved by individuals with disabilities, which ultimately will increase the percentage of individuals with disabilities who receive services through the State VR agencies who achieve competitive integrated employment outcomes. This priority would promote the efficient and effective use of Federal funds.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: August 7, 2015.
Michael K. Yudin,
Assistant Secretary for Special Education and Rehabilitative Services.

[FR Doc. 2015-20011 Filed 8-12-15; 8:45 am]

BILLING CODE 4000-01-P